DEPARTMENT OF ENERGY

Federal Energy Regulatory Commission

[Docket Nos. EC96-10-000 and ER96-1663-000]

California Power Exchange Corporation; Notice of Filing

August 10, 2000.

Take notice that on July 31, 2000, the California Power Exchange Corporation (CalPX) filed the annual report of its Compliance Unit pursuant to the Commission's October 30, 1997 order in this proceeding, 81 FERC ¶ 61,122 at 61,553, and its March 15, 2000 Notice of Extension of Time in this proceeding. CalPX has served copies on all parties on the official service list in Docket Nos. EC96-19-000 et al. and on the California Public Utilities Commission, the California Energy Commission, the California Electricity Oversight Board, the Arizona Corporation Commission, the Nevada Public Service Commission and the Oregon Public Utility Commission.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before August 30, 2000. Protests will be considered by the Commission to determine the appropriate action to be taken, but will not serve to make protestants parties to the proceedings. Any person wishing to become a party must filed a motion to intervene. Copies of this filing are on filed with Commission and are available for public inspection. This filing may also be viewed on the Internet at http://www.ferc.fed.us/online/rims.htm (call 202-208-2222 for assistance).

David P. Boergers,
Secretary.

[FR Doc. 00-20785 Filed 8-15-00; 8:45 am]

BILLING CODE 6717-01-M